DEPARTMENT OF ENERGY

Federal Energy Regulatory Commission

Notice of Staff Attendance at North American Electric Reliability Corporation Project 2020-02 Modifications to PRC-024 Meetings

The Federal Energy Regulatory Commission hereby gives notice that members of the Commission and/or Commission staff may attend the following meetings:

North American Electric Reliability Corporation: Project 2020-02 Modifications to PRC-024 Meetings, WebEx:

July 9, 2024 | 9:00 a.m.-4:00 p.m. Central

July 10, 2024 | 9:00 a.m.-4:00 p.m. Central

July 11, 2024 | 9:00 a.m.-4:00 p.m. Central

Further information regarding this meeting and how to join remotely may be found at: https://nerc.webex.com/wbxmjs/joinservice/sites/nerc/meeting/download/0b064b4b29114f809893f73534862f44?siteurl=nerc&MTID=m5d32aee7ffebb230292be49b95cedbca.

The discussions at the meetings, which are open to the public, may address matters at issue in the following Commission proceedings:

Docket No. RR24-2-000—North American Electric Reliability Corporation

For further information, please contact Leigh Anne Faugust at (202) 502-6396 or leigh.faugust@ferc.gov.

Dated: July 2, 2024.
Debbie-Anne A. Reese,
Acting Secretary.

[FR Doc. 2024-15079 Filed 7-9-24; 8:45 am]

BILLING CODE 6717-01-P